DEPARTMENT OF TRANSPORTATION

Federal Aviation Administration

14 CFR Part 97

[Docket No. 31089; Amdt. No. 3707]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 25, 2016. The compliance date for each SIAP, associated Takeoff Minimums, and ODP is specified in the amendatory provisions.

The incorporation by reference of certain publications listed in the regulations is approved by the Director of the Federal Register as of August 25, 2016.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on July 29, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 15 September 2016

Troy, AL, Troy Muni Airport at N Kenneth Campbell Field, ILS OR LOC RWY 7, Amdt 11

Troy, AL, Troy Muni Airport at N Kenneth Campbell Field, RNAV (GPS) RWY 7, Amdt 3

Troy, AL, Troy Muni Airport at N Kenneth Campbell Field, RNAV (GPS) RWY 25, Amdt 3

El Monte, CA, San Gabriel Valley, NDB OR GPS-C, Amdt 1A

El Monte, CA, San Gabriel Valley, VOR OR GPS-A, Amdt 7A

El Monte, CA, San Gabriel Valley, VOR or GPS-B, Amdt 3A

Half Moon Bay, CA, Half Moon Bay, Takeoff Minimums and Obstacle DP, Amdt 1

Hanford, CA, Hanford Muni, Takeoff Minimums and Obstacle DP, Amdt 1A

Hayward, CA, Hayward Executive, LOC/DME RWY 28L, Amdt 3B

Hayward, CA, Hayward Executive, RNAV (GPS) RWY 28L, Amdt 1B

Hayward, CA, Hayward Executive, VOR/DME-A, Amdt 3A

Livermore, CA, Livermore Muni, RNAV (GPS) RWY 25R, Amdt 1

Napa, CA, Napa County, RNAV (GPS) Z RWY 36L, Amdt 1B

Napa, CA, Napa County, VOR RWY 6, Amdt 13B

Oakland, CA, Metropolitan Oakland Intl, ILS OR LOC RWY 12, ILS RWY 12 (SA CAT I), Amdt 8A

Oakland, CA, Metropolitan Oakland Intl, RNAV (GPS) Y RWY 28L, Amdt 4A

Oakland, CA, Metropolitan Oakland Intl, RNAV (GPS) Y RWY 30, Amdt 5A

Oakland, CA, Metropolitan Oakland Intl, RNAV (RNP) Z RWY 30, Amdt 3A

Oakland, CA, Metropolitan Oakland Intl, VOR RWY 10R, Amdt 10A

Oakland, CA, Metropolitan Oakland Intl, VOR/DME RWY 28L, Amdt 12A, CANCELED

Palm Springs, CA, Bermuda Dunes, Takeoff Minimums and Obstacle DP, Amdt 1

Palm Springs, CA, Jacqueline Cochran Rgnl, Takeoff Minimums and Obstacle DP, Amdt 3

Palo Alto, CA, Palo Alto, VOR/DME RWY 31, Orig-F

Paso Robles, CA, Paso Robles Muni, RNAV (GPS) RWY 19, Amdt 1A

Paso Robles, CA, Paso Robles Muni, VOR RWY 19, Amdt 4C

Paso Robles, CA, Paso Robles Muni, VOR-B, Amdt 3A

Petaluma, CA, Petaluma Muni, VOR RWY 29, Orig-D

San Jose, CA, Norman Y Mineta San Jose Intl, ILS OR LOC RWY 30L, ILS RWY 30L (SA CAT I), ILS RWY 30L (SA CAT II), Amdt 25A

Santa Rosa, CA, Charles M Schulz-Sonoma County, ILS OR LOC/DME RWY 32, Amdt 19A

Santa Rosa, CA, Charles M Schulz-Sonoma County, RNAV (GPS) RWY 2, Orig-D

Santa Rosa, CA, Charles M Schulz-Sonoma County, RNAV (GPS) RWY 32, Amdt 1B

Santa Rosa, CA, Charles M Schulz-Sonoma County, VOR/DME RWY 14, Amdt 3B

Holyoke, CO, Holyoke, RNAV (GPS) RWY 14, Orig-F

Trinidad, CO, Perry Stokes, NDB-A, Amdt 3, CANCELED

Trinidad, CO, Perry Stokes, RNAV (GPS) RWY 21, Orig

Trinidad, CO, Perry Stokes, RNAV (GPS)-B, Amdt 1, CANCELED

Trinidad, CO, Perry Stokes, Takeoff Minimums and Obstacle DP, Amdt 5

Trinidad, CO, Perry Stokes, TRINIDAD ONE Graphic DP

Sarasota/Bradenton, FL, Sarasota/Bradenton Intl, ILS OR LOC RWY 14, Amdt 6B

Sarasota/Bradenton, FL, Sarasota/Bradenton Intl, ILS OR LOC RWY 32, Amdt 8B

Sarasota/Bradenton, FL, Sarasota/Bradenton Intl, RNAV (GPS) RWY 4, Amdt 2B

Sarasota/Bradenton, FL, Sarasota/Bradenton Intl, RNAV (GPS) RWY 14, Amdt 3B

Sarasota/Bradenton, FL, Sarasota/Bradenton Intl, RNAV (GPS) RWY 32, Amdt 3B

Sarasota/Bradenton, FL, Sarasota/Bradenton Intl, VOR RWY 14, Amdt 18B

St Petersburg-Clearwater, FL, St Pete-Clearwater Intl, ILS OR LOC RWY 18L, ILS RWY 18L (CAT II), Amdt 22B, CANCELED

St Petersburg-Clearwater, FL, St Pete-Clearwater Intl, ILS OR LOC RWY 36, Orig

St Petersburg-Clearwater, FL, St Pete-Clearwater Intl, ILS OR LOC RWY 36R, Amdt 4, CANCELED

St Petersburg Clearwater, FL, St Pete-Clearwater Intl, RNAV (GPS) RWY 18, Orig

St Petersburg-Clearwater, FL, St Pete-Clearwater Intl, RNAV (GPS) RWY 18L, AMDT 1C, CANCELED

St Petersburg-Clearwater, FL, St Pete-Clearwater Intl, RNAV (GPS) RWY 36, Orig

St Petersburg-Clearwater, FL, St Pete-Clearwater Intl, RNAV (GPS) RWY 36R, Amdt 2C, CANCELED

St Petersburg-Clearwater, FL, St Pete-Clearwater Intl, VOR RWY 36, Orig

St Petersburg-Clearwater, FL, St Pete-Clearwater Intl, VOR/DME RWY 36R, Amdt 2, CANCELED

St Petersburg, FL Albert Whitted, RNAV (GPS) RWY 7, Amdt 3D

Albany, GA, Southwest Georgia Rgnl, ILS OR LOC RWY 4, Amdt 11A

Albany, GA, Southwest Georgia Rgnl, LOC BC RWY 22, Amdt 8A

Albany, GA, Southwest Georgia Rgnl, VOR OR TACAN RWY 16, Amdt 27A

Gainesville, GA, Lee Gilmer Memorial, ILS OR LOC/DME RWY 5, Orig-A

Gainesville, GA, Lee Gilmer Memorial, NDB RWY 5, Amdt 5B

Champaign/Urbana, IL, University of Illinois-Willard, Takeoff Minimums and Obstacle DP, Amdt 1

Ulysses, KS, Ulysses, NDB RWY 12, Amdt 4

Ulysses, KS, Ulysses, RNAV (GPS) RWY 12, Amdt 2

Ulysses, KS, Ulysses, RNAV (GPS) RWY 17, Amdt 1B

Ulysses, KS, Ulysses, RNAV (GPS) RWY 30, Amdt 1A

Ulysses, KS, Ulysses, RNAV (GPS) RWY 35, Amdt 1A

Hyannis, MA, Barnstable Muni-Boardman/Polando Field, ILS OR LOC RWY 15, Amdt 5

Hyannis, MA, Barnstable Muni-Boardman/Polando Field, ILS OR LOC RWY 24, Amdt 19

Trenton, MO, Trenton Muni, NDB RWY 18, Amdt 7D

Trenton, MO, Trenton Muni, NDB RWY 36, Amdt 10B

Baker, MT, Baker Muni, RNAV (GPS) RWY 13, Orig

Deer Lodge, MT, Deer Lodge-City-County, RNAV (GPS)-A, Amdt 1

Grand Island, NE., Central Nebraska Rgnl, ILS OR LOC RWY 35, Amdt 9F

Grand Island, NE., Central Nebraska Rgnl, LOC/DME BC RWY 17, Amdt 9E

Grand Island, NE., Central Nebraska Rgnl, VOR RWY 13, Amdt 19C

Grand Island, NE., Central Nebraska Rgnl, VOR RWY 17, Amdt 24B

Grand Island, NE., Central Nebraska Rgnl, VOR/DME RWY 31, Amdt 8A

Grand Island, NE., Central Nebraska Rgnl, VOR/DME RWY 35, Amdt 15B

Harvard, NE., Harvard State, RNAV (GPS) RWY 17, Orig-B

Ogdensburg, NY, Ogdensburg Intl, LOC RWY 27, Amdt 4

Ogdensburg, NY, Ogdensburg Intl, RNAV (GPS) RWY 27, Amdt 1

Ogdensburg, NY, Ogdensburg Intl, Takeoff Minimums and Obstacle DP, Amdt 2

Clinton, OK, Clinton Rgnl, RNAV (GPS) RWY 17, Amdt 3

Clinton, OK, Clinton Rgnl, RNAV (GPS) RWY 35, Amdt 4

Clinton, OK, Clinton Rgnl, VOR/DME-A, Orig, CANCELED

Elk City, OK, Elk City Rgnl Business, RNAV (GPS) RWY 17, Amdt 2

Elk City, OK, Elk City Rgnl Business, RNAV (GPS) RWY 35, Amdt 2

Weatherford, OK, Thomas P Stafford, RNAV (GPS) RWY 35, Amdt 3

John Day, OR, Grant County Rgnl/Ogilvie, Takeoff Minimums and Obstacle DP, Amdt 2

Harrisburg, PA, Harrisburg Intl, ILS OR LOC RWY 31, Amdt 1C

Harrisburg, PA, Harrisburg Intl, Takeoff Minimums and Obstacle DP, Amdt 8A

Indiana, PA, Indiana County/Jimmy Stewart Fld/, RNAV (GPS) RWY 11, Orig

Indiana, PA, Indiana County/Jimmy Stewart Fld/, RNAV (GPS) RWY 29, Orig

Indiana, PA, Indiana County/Jimmy Stewart Fld/, Takeoff Minimums and Obstacle DP, Orig

Indiana, PA, Indiana County/Jimmy Stewart Fld/, Takeoff Minimums and Obstacle DP, Amdt 2, CANCELED

Reading, PA, Reading Rgnl/Carl A Spaatz Field, RNAV (GPS) RWY 36, Orig-B

Clarksville, TN, Outlaw Field, LOC RWY 35, Amdt 6

Clarksville, TN, Outlaw Field, RNAV (GPS) RWY 17, Amdt 1

Clarksville, TN, Outlaw Field, RNAV (GPS) RWY 35, Amdt 1

Trenton, TN, Gibson County, RNAV (GPS) RWY 1, Amdt 1

Trenton, TN, Gibson County, RNAV (GPS) RWY 19, Amdt 1

Canadian, TX, Hemphill County, RNAV (GPS) RWY 4, Amdt 2

Galveston, TX, Scholes Intl at Galveston, ILS OR LOC RWY 14, Amdt 12B

Galveston, TX, Scholes Intl at Galveston, VOR RWY 14, Amdt 4B

Wheeler, TX, Wheeler Muni, RNAV (GPS) RWY 17, Orig-A, CANCELED

Wheeler, TX, Wheeler Muni, RNAV (GPS) RWY 35, Orig-A, CANCELED

Wheeler, TX, Wheeler Muni, RNAV (GPS)-A, Orig

Wheeler, TX, Wheeler Muni, RNAV (GPS)-B, Orig

Wheeler, TX, Wheeler Muni, VOR/DME-A, Amdt 2, CANCELED

Chehalis, WA, Chehalis-Centralia, RNAV (GPS) RWY 16, Amdt 2

La Crosse, WI, La Crosse Rgnl, RNAV (GPS) RWY 18, Orig-D

La Crosse, WI, La Crosse Rgnl, RNAV (GPS) RWY 36, Orig-C

Hulett, WY, Hulett Muni, RNAV (GPS) RWY 13, Orig

[FR Doc. 2016-20293 Filed 8-24-16; 8:45 am]

BILLING CODE 4910-13-P